FEDERAL ELECTION COMMISSION

Sunshine Act Meeting

AGENCY: Federal Election Commission.

Federal Register Citation of Previous Announcement—79 FR 13651 (March 11, 2014)

DATE & TIME: Tuesday March 11, 2014 at 11:00 a.m.

PLACE: 999 E Street, NW., Washington, DC.

STATUS: This meeting will be closed to the public.

CHANGE IN THE MEETING: The March 11, 2014 meeting will be continued on March 18, 2014 and will start at 10:00 a.m.

* * * * *

PERSON TO CONTACT FOR INFORMATION: Judith Ingram, Press Officer Telephone: (202) 694-1220

Shawn Woodhead Werth,
Secretary and Clerk.

[FR Doc. 2014-05966 Filed 3-18-14; 8:45 am]

BILLING CODE 6715-01-M